DEPARTMENT OF ENERGY

Federal Energy Regulatory Commission

Combined Notice of Filings #2

Take notice that the Commission received the following electric corporate filings:

Docket Numbers: EC24-28-000.

Applicants: Vitol PA Wind Marketing LLC, Twin Ridges LLC, Patton Wind Farm, LLC, Highland North LLC.

Description: Supplement to December 20, 2023 Joint Application for Authorization Under Section 203 of the Federal Power Act of Twin Ridges LLC, et al.

Filed Date: 1/11/24.

Accession Number: 20240111-5214.

Comment Date: 5 p.m. ET 1/22/24.

Take notice that the Commission received the following electric rate filings:

Docket Numbers: ER23-2917-001.

Applicants: California Independent System Operator Corporation.

Description: Tariff Amendment: 2024-1-12 Deficiency Response—Subscriber Participating Transmission Owner Amdt to be effective 3/13/2024.

Filed Date: 1/12/24.

Accession Number: 20240112-5110.

Comment Date: 5 p.m. ET 2/2/24.

Docket Numbers: ER24-96-001.

Applicants: Pacific Gas and Electric Company.

Description: Compliance filing: Transmission Owner Rate Case TO21 Formula Rate Compliance Filing to be effective 1/1/2024.

Filed Date: 1/12/24.

Accession Number: 20240112-5108.

Comment Date: 5 p.m. ET 2/2/24.

Docket Numbers: ER24-869-000.

Applicants: PJM Interconnection, L.L.C., West Penn Power Company.

Description: § 205(d) Rate Filing: PJM Interconnection, L.L.C. submits tariff filing per 35.13(a)(2)(iii: West Penn Power Amends 3 Service Agreements (3661 4897 5049) to be effective 1/1/2024.

Filed Date: 1/12/24.

Accession Number: 20240112-5092.

Comment Date: 5 p.m. ET 2/2/24.

Docket Numbers: ER24-870-000.

Applicants: FirstEnergy Pennsylvania Electric Company, PJM Interconnection, L.L.C.

Description: § 205(d) Rate Filing: FirstEnergy Pennsylvania Electric Company submits tariff filing per 35.13(a)(2)(iii: FEPA submits Amended IA, SA No. 4976 re: FirstEnergy Reorganization to be effective 1/1/2024.

Filed Date: 1/12/24.

Accession Number: 20240112-5111.

Comment Date: 5 p.m. ET 2/2/24.

Docket Numbers: ER24-871-000.

Applicants: PJM Interconnection, L.L.C.

Description: Tariff Amendment: Notice of Cancellation of WMPA, SA No. 6608; Queue No. AH1-109 re: breach to be effective 3/13/2024.

Filed Date: 1/12/24.

Accession Number: 20240112-5113.

Comment Date: 5 p.m. ET 2/2/24.

Docket Numbers: ER24-872-000.

Applicants: California Independent System Operator Corporation.

Description: § 205(d) Rate Filing: 2024-01-12 Rules of Conduct Tariff Amendment to be effective 12/31/9998.

Filed Date: 1/12/24.

Accession Number: 20240112-5121.

Comment Date: 5 p.m. ET 2/2/24.

Docket Numbers: ER24-874-000.

Applicants: Duke Energy Progress, LLC, Duke Energy Carolinas, LLC.

Description: § 205(d) Rate Filing: Duke Energy Progress, LLC submits tariff filing per 35.13(a)(2)(iii: DEC-DEP—Re-Filing of Proposed Revisions to Attachment N-1 to be effective 3/13/2024.

Filed Date: 1/12/24.

Accession Number: 20240112-5127.

Comment Date: 5 p.m. ET 2/2/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 12, 2024.
Debbie-Anne A. Reese,
Acting Secretary.

[FR Doc. 2024-01041 Filed 1-18-24; 8:45 am]

BILLING CODE 6717-01-P